FEDERAL COMMUNICATIONS COMMISSION

Sunshine Act Meeting; Open Commission Meeting, Thursday, June 26, 2003

June 19, 2003.

The Federal Communications Commission will hold an Open Meeting on the subjects listed below on Thursday, June 26, 2003, which is scheduled to commence at 9:30 a.m. in Room TW-C305, at 445 12th Street, SW., Washington, DC.

Item No. | Bureau | Subject
1 | WIRELESS TELE-COMMUNICATIONS | Title: Implementation of Section 6002 (b) of the Omnibus Budget Reconciliation Act of 1993 (WT Docket No. 02-379); and Annual Report and Analysis of Competitive Market Conditions with Respect to Commercial Mobile Services.
|  | Summary: The Commission will consider an Eighth Report concerning the status of competition with respect to Commercial Mobile Services.
2 | INTERNATIONAL | Title: Amendment of the Commission's Space Station Licensing Rules and Policies (IB Docket No. 02-34); and 2000 Biennial Regulatory Review—Streamlining and Other Revisions of Part 25 of the Commission's Rules Governing the Licensing of, and Spectrum Usage by, Satellite Network Earth Stations and Space Stations (IB Docket No. 00-248).
|  | Summary: The Commission will consider a Third Report and Order and Second Further Notice of Proposed Rulemaking concerning issues raised by proposed revisions to satellite and earth station license application forms.
3 | CONSUMER & GOVERNMENTAL AFFAIRS | Title: Rules and Regulations Implementing the Telephone Consumer Protection Act of 1991 (CG Docket No. 02-278).
|  | Summary: The Commission will consider a Report and Order concerning its rules on unsolicited advertising over the telephone and facsimile machine.

Additional information concerning this meeting may be obtained from Audrey Spivack or David Fiske, Office of Media Relations, (202) 418-0500; TTY 1-888-835-5322.

Audio/Video coverage of the meeting will be broadcast live over the Internet from the FCC's Audio/Video Events web page at http://www.fcc.gov/realaudio.

For a fee this meeting can be viewed live over George Mason University's Capitol Connection. The Capitol Connection also will carry the meeting live via the Internet. To purchase these services call (703) 993-3100 or go to http://www.capitolconnection.gmu.edu. Audio and video tapes of this meeting can be purchased from CACI Productions, 341 Victory Drive, Herndon, VA 20170, (703) 834-1470, Ext. 19; Fax (703) 834-0111.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

Federal Communications Commission.
Marlene H. Dortch,
Secretary.

[FR Doc. 03-16486 Filed 6-25-03; 2:36 pm]

BILLING CODE 6712-01-P